TENNESSEE VALLEY AUTHORITY

[Meeting No. 11-01]

Sunshine Act Meeting Notice; February 18, 2011

The TVA Board of Directors will hold a public meeting on February 18, 2011, at the Tri-County Community College, 21 Campus Circle, Murphy, North Carolina, to consider the matters listed below. The public may comment on any agenda item or subject at a public listening session which begins at 8:30 a.m. (EST). Immediately following the end of the public listening session, the meeting will be called to order to consider the agenda items listed below. Please Note: Speakers must pre-register online at TVA.gov or sign in before the meeting begins at 8:30 a.m. (EST) on the day of the meeting. The Board will answer questions from the news media following the Board meeting.

Status: Open.

Agenda

Old Business

Approval of minutes of November 4, 2010, Board Meeting

New Business

1. Chairman's Welcome

2. President's Report

3. Governance Item—Nuclear Oversight Committee Charter Amendment

4. Report of the Audit, Risk, and Regulation Committee

5. Report of the People and Performance Committee

6. Report of the Finance, Rates, and Portfolio Committee

A. Contract with American Centrifuge Enrichment, LLC, for uranium enrichment services

B. Contract with Cameco, Inc., for uranium hexafluoride

C. Construction of a new gypsum dewatering facility at Kingston Fossil Plant

D. Adjustment Addendum (Fuel Cost Adjustment) and other rate change implementation matters

E. Contract(s) for operations materials and industrial equipment

F. Power contracts—(i) Extension of an existing power supply agreement and (ii) authorization of service to new firm load

7. Report of the Customer and External Relations Committee

A. Demand Response Program delegation

8. Report of the Nuclear Oversight Committee

For more information: Please call TVA Media Relations at (865) 632-6000, Knoxville, Tennessee. People who plan to attend the meeting and have special needs should call (865) 632-6000. Anyone who wishes to comment on any of the agenda in writing may send their comments to: TVA Board of Directors, Board Agenda Comments, 400 West Summit Hill Drive, Knoxville, Tennessee 37902.

Dated: February 11, 2011.
Ralph E. Rodgers,
Acting General Counsel and Secretary.

[FR Doc. 2011-3657 Filed 2-14-11; 4:15 pm]

BILLING CODE 8120-08-P